DEPARTMENT OF THE INTERIOR

Bureau of Land Management

[WY-957-06-9820-BJ-WY02]

Notice of Filing of Plats of Survey, Nebraska

AGENCY: Bureau of Land Management, Interior.

SUMMARY: The Bureau of Land Management (BLM) is scheduled to file the plats of surveys of the lands described below thirty (30) calendar days from the date of this publication in the BLM Wyoming State Office, Cheyenne, Wyoming.

FOR FURTHER INFORMATION CONTACT: Bureau of Land Management, 5353 Yellowstone Road, Cheyenne, Wyoming 82009.

SUPPLEMENTARY INFORMATION: These surveys were executed at the request of the United States Department of Agriculture Forest Service, Nebraska National Forest and are necessary for the management of these lands. The lands surveyed are:

The plat and field notes representing the dependent resurvey of a portion of the Sixth Guide Meridian West (east boundary), through Township 31 North, between Ranges 48 and 49 West, portions of the north and west boundaries, a portion of the subdivisional lines, the subdivision of certain sections, and the metes and bounds survey of Camp Norwesca, Township 31 North, Range 49 West, Sixth Principal Meridian, Nebraska, was accepted June 2, 2006.

Copies of the preceding described plats and field notes are available to the public.

Dated: July 24, 2006.
John P. Lee,
Chief Cadastral Surveyor, Division of Support Services.

[FR Doc. E6-12135 Filed 7-27-06; 8:45 am]

BILLING CODE 4310-22-P